DEPARTMENT OF DEFENSE

Department of the Navy

Notice of Extension to the Public Comment Period From April 3, 2000 to April 24, 2000 for the Environmental Impact Statement for the Disposal and Reuse of MCAS El Toro

AGENCY: Department of the Navy, DoD.

ACTION: Notice.

SUMMARY: Pursuant to a request from the El Toro Reuse Planning Authority (ETRPA), the Deputy Assistant Secretary of the Navy (Installations and Environment), has decided to extend the public review comment period for the former Marine Corps Air Station (MCAS) El Toro Disposal and Reuse Environmental Impact Statement (EIS), from April 3, 2000 to April 24, 2000.

FOR FURTHER INFORMATION CONTACT: Mr. Robert Montana, NEPA Project Manager, Commander, Southwest Division, BRAC Program Office, 1230 Columbia Street, Suite 1100, San Diego, CA 92101-8517, phone (619) 532-0942.

Dated: April 12, 2000.
J.L. Roth,
Lieutenant Commander, Judge Advocate General's Corps U.S. Navy, Federal Register Liaison Officer.

[FR Doc. 00-9528 Filed 4-14-00; 8:45 am]

BILLING CODE 3810-FF-P